DEPARTMENT OF COMMERCE

National Oceanic and Atmospheric Administration

Proposed Information Collection; Comment Request; Pacific Albacore Logbook

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 5, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to John Childers, SWFSC, 8901 La Jolla Shores Drive, La Jolla, CA 92037, 858-546-7192, john.childers@noaa.gov.

SUPPLEMENTARY INFORMATION:

I. Abstract

This request is for extension of a currently approved collection. U.S. fishermen, participating in the Pacific albacore tuna fishery, are required to obtain a Highly Migratory Species Fishery Management Plan and/or a High-Seas Fishery Compliance Act permit. A requirement for the permits is to complete and submit logbooks documenting their daily fishing activities, including catch and effort for each fishing trip. Submissions must be made within 30 days of the completion of a trip. The information obtained is used by the agency to assess the status of Pacific albacore stocks and to monitor the fishery.

II. Method of Collection

Respondents have a choice of either electronic data submission or paper forms. Methods of submittal include email of electronic data submissions, and mailing of paper forms.

III. Data

OMB Control Number: 0648-0223.

Form Number(s): NOAA Form 88-197.

Type of Review: Regular submission (extension of a currently approved collection).

Affected Public: Business or other for-profit organizations.

Estimated Number of Respondents: 4,000.

Estimated Time per Response: 1 hour.

Estimated Total Annual Burden Hours: 4,000.

Estimated Total Annual Cost to Public: $2,560 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 30, 2014.
Gwellnar Banks,
Management Analyst, Office of the Chief Information Officer.

[FR Doc. 2014-23713 Filed 10-3-14; 8:45 am]

BILLING CODE 3510-22-P